FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 9, 2019.

A. Federal Reserve Bank of Atlanta (Kathryn Haney, Assistant Vice President) 1000 Peachtree Street NE, Atlanta, Georgia 30309. Comments can also be sent electronically to Applications.Comments@atl.frb.org:

1. Jacquelyn Lee Johnson, as co-trustee of the Zachary M. Johnson, Jr. Irrevocable Trust, Woodbine, Georgia; Ms. Jennifer J. Pope, as co-trustee, Macon, Georgia; Mr. Zachary M. Johnson, III, and Mr. Homer Jackson Johnson, as co-trustees, of the Zachary M. Johnson, Jr. Irrevocable Trust, all of Alma, Georgia; to retain shares of First Bank Shares of the South East, Inc., and thereby indirectly retain shares of its subsidiary, FNB South (formerly known as First National Bank South), both of Alma, Georgia.

B. Federal Reserve Bank of Kansas City (Dennis Denney, Assistant Vice President) 1 Memorial Drive, Kansas City, Missouri 64198-0001:

1. Mark Brase, Windsor, Colorado, individually and as trustee for the William S. Olson Trust, the Beth Brase Appointment Trust, the Christine Vanderliet Appointment Trust, and the Carla Lehman Appointment Trust, all of Windsor, Colorado; to retain voting shares of O & F Cattle Company, and thereby indirectly retain shares of Nebraska State Bank, both in Oshkosh, Nebraska.

In addition, Christine Vanderliet, Angels Camp, California; Carla Lehman, Denver, Colorado; and Beth Brase, Windsor, Colorado; to join the Olson Family Group and retain voting shares of O & F Cattle Company.

C. Federal Reserve Bank of Minneapolis (Mark A. Rauzi, Vice President) 90 Hennepin Avenue, Minneapolis, Minnesota 55480-0291:

1. Ted Gerber and Kelly Gerber, both of Grantsburg, Wisconsin; to retain shares of Cameron Bancorp, Inc., Cameron, Wisconsin, and thereby indirectly retain shares of Community Bank of Cameron, Cameron, Wisconsin.

Additionally, Mary Gerber, Timothy Gerber, Heather Gerber, Caralyn Duerkop, Justin Duerkop, all of Cameron, Wisconsin; Ernest Tyler Gerber, Menasha, Wisconsin; Nancy Gerber, Exeland, Wisconsin; and Mercedes Gerber, Rice Lake, Wisconsin; to retain shares and be approved as members of the Gerber Family group acting in concert, to retain shares of Cameron Bancorp, Inc., Cameron, Wisconsin.

Board of Governors of the Federal Reserve System, July 22, 2019.
Yao-Chin Chao,
Assistant Secretary of the Board.

[FR Doc. 2019-15835 Filed 7-24-19; 8:45 am]

BILLING CODE 6210-01-P